FEDERAL ACCOUNTING STANDARDS ADVISORY BOARD

Notice of Meetings for 2005

Board Action: Pursuant to 31 U.S.C. 3511(d), the Federal Advisory Committee Act (Pub. L. No. 92-463), as amended, and the FASAB Rules of Procedure, as amended in April, 2004, notice is hereby given that the Federal Accounting Standards Advisory Board (FASAB) will meet on the following dates in room 7C13 of the U.S. Government Accountability Office (GAO) Building (441 G Street NW) unless otherwise noted:

—Wednesday and Thursday, March 2 and 3, 2005

—Wednesday and Thursday, May 4 and 5, 2005

—Wednesday and Thursday, June 22 and 23, 2005

—Wednesday and Thursday, August 17 and 18, 2005

—Wednesday and Thursday, October 5 and 6, 2005

—Wednesday and Thursday, December 7 and 8, 2005

The purposes of the meetings are to discuss issues related to:

—FASAB's conceptual framework,

—Stewardship Reporting,

—Social Insurance,

—Natural Resources,

—Inter-entity Costs,

—Fiduciary Activities,

—Technical Agenda, and

—Any other topics as needed.

A more detailed agenda can be obtained from the FASAB Web site (http://www.fasab.gov) one week prior to each meeting.

Any interested person may attend the meetings as an observer. Board discussion and reviews are open to the public. GAO Building security requires advance notice of your attendance. Please notify FASAB of your planned attendance by calling 202-512-7350 at least one day prior to the respective meeting.

FOR FURTHER INFORMATION CONTACT: Wendy M. Comes, Executive Director, 441 G St., NW., Mail Stop 6K17V, Washington, DC 20548, or call (202) 512-7350.

Authority: Federal Advisory Committee Act. Pub. L. 92-463.

Dated: September 17, 2004.
Charles Jackson,
Federal Register Liaison Officer.

[FR Doc. 04-21251 Filed 9-21-04; 8:45 am]

BILLING CODE 1610-01-M